DEPARTMENT OF LABOR

Occupational Safety and Health Administration

[Docket No. OSHA-2010-0046]

QPS Evaluation Services, Inc.: Request for Renewal of Recognition

AGENCY: Occupational Safety and Health Administration (OSHA), Labor.

ACTION: Notice.

SUMMARY: In this notice, OSHA announces the application of QPS Evaluation Services, Inc. (QPS) requesting renewal of recognition as a Nationally Recognized Testing Laboratory (NRTL).

DATES: Submit comments, information, and documents in response to this notice, or requests for an extension of time to make a submission, on or before December 30, 2021.

ADDRESSES: Submit comments by any of the following methods:

Electronically: You may submit comments and attachments electronically at: https://www.regulations.gov, which is the Federal eRulemaking Portal. Follow the instructions online for submitting comments.

Mail, hand delivery, express mail, messenger, or courier service: When using this method, you must submit a copy of your comments and attachments to the OSHA Docket Office, Docket No. OSHA-2019-0008, Occupational Safety and Health Administration, U.S. Department of Labor; telephone (202) 693-2350. OSHA's TTY number is (877) 889-5627. Please note: While OSHA's docket office is continuing to accept and process submissions by regular mail, due to the COVID-19 pandemic, the Docket Office is closed to the public and not able to receive submissions to the record by express delivery, hand delivery and messenger service.

Instructions: All submissions must include the agency name and the OSHA docket number (OSHA-2010-0046). OSHA places comments and other materials, including any personal information, in the public docket without revision, and these materials will be available online at http://www.regulations.gov. Therefore, the agency cautions commenters about submitting statements they do not want made available to the public, or submitting comments that contain personal information (either about themselves or others) such as Social Security Numbers, birth dates, and medical data.

Docket: To read or download comments or other material in the docket, go to https://www.regulations.gov or the OSHA Docket Office at the above address. All documents in the docket (including this Federal Register notice) are listed in the https://www.regulations.gov index; however, some information (e.g., copyrighted material) is not publicly available to read or download through the website. All submissions, including copyrighted material, are available for inspection at the OSHA Docket Office. Contact the OSHA Docket Office for assistance in locating docket submissions.

Extension of comment period: Submit requests for an extension of the comment period on or before December 30, 2021 to the Office of Technical Programs and Coordination Activities, Directorate of Technical Support and Emergency Management, Occupational Safety and Health Administration, U.S. Department of Labor, 200 Constitution Avenue NW, Room N-3653, Washington, DC 20210, or by fax to (202) 693-1644.

FOR FURTHER INFORMATION CONTACT: Information regarding this notice is available from the following sources:

Press inquiries: Contact Mr. Frank Meilinger, Director, OSHA Office of Communications, U.S. Department of Labor, telephone: (202) 693-1999; email: meilinger.francis2@dol.gov.

General and technical information: Contact Mr. Kevin Robinson, Director, Office of Technical Programs and Coordination Activities, Directorate of Technical Support and Emergency Management, Occupational Safety and Health Administration, U.S. Department of Labor, phone: (202) 693-2110 or email: robinson.kevin@dol.gov.

SUPPLEMENTARY INFORMATION:

I. Background

OSHA recognition of a NRTL signifies that the organization meets the requirements in 29 CFR 1910.7. Recognition is an acknowledgment that the organization can perform independent safety testing and certification of the specific products covered within its scope of recognition and is not a delegation or grant of government authority. As a result of recognition, employers may use products properly approved by the NRTL to meet OSHA standards that require testing and certification. OSHA maintains an informational web page for each NRTL that details its scope of recognition available at http://www.osha.gov/dts/otpca/nrtl/index.html.

OSHA processes applications by a NRTL for renewal of recognition following requirements in Appendix A to 29 CFR 1910.7. OSHA conducts renewals in accordance with the procedures in 29 CFR 1910.7, Appendix A, paragraph II.C. In accordance with these procedures, NRTLs submit a renewal request to OSHA, not less than nine months or no more than one year, before the expiration date of its current recognition. The submission includes a request for renewal and any additional information the NRTL wishes to submit to demonstrate its continued compliance with the terms of its recognition and 29 CFR 1910.7. If OSHA has not conducted an on-site assessment of the NRTL's headquarters and key sites within the past 18 to 24 months, it will schedule the necessary on-site assessments prior to the expiration date of the NRTL's recognition. Upon review of the submitted material and, as necessary, the successful completion of the on-site assessment, OSHA announces its preliminary decision to grant or deny renewal in the Federal Register and solicit comments from the public. OSHA then publishes a final Federal Register notice responding to any comments and renewing the NRTL's recognition for a period of five years, or denying the renewal of recognition.

QPS initially received OSHA recognition as a NRTL on March 2, 2011 (76 FR 11518). QPS's most recent renewal was granted on April 25, 2016, for a five-year period ending on April 25, 2021 (81 FR 24133). QPS submitted its request for renewal in July, 2019 (OSHA-2010-0046-0016). While OSHA should have rejected the renewal request because it was submitted more than one year before the expiration of QPS's current recognition (see above discussion), OSHA failed to do so and instead accepted the request. Because OSHA accepted the request rather than rejecting it, OSHA is processing the renewal request even though it was filed outside the time period permitted by 29 CFR 1910.7 Appendix A.

The renewal application was amended on August 25, 2021 (OSHA-2010-0046-0017) to indicate that a change in company ownership had occurred after QPS submitted the original renewal application. Through communications with QPS, OSHA confirmed that QPS's acquisition by another company was the only material change that occurred after QPS submitted its initial renewal application.

QPS retains its recognition pending OSHA's final decision in this renewal process. The current address of the QPS facility recognized by OSHA and included as part of the renewal request is: QPS Evaluation Services, Inc., 81 Kelfield Street, Unit 8, Toronto, Ontario M9W 5A3 Canada.

II. Notice of Preliminary Findings

OSHA is providing notice that QPS is applying for renewal of its recognition as a NRTL. This renewal covers QPS's existing NRTL scope of recognition. OSHA evaluated QPS's application for renewal and preliminarily determined that QPS can continue to meet the requirements prescribed by 29 CFR 1910.7 for recognition. OSHA has determined that it does not need to conduct an on-site review of QPS's facility, based on its evaluations of QPS's application and all other available information. This information includes OSHA's most recent audit of QPS's NRTL recognized site during this recognition period, and the satisfactory resolution of non-conformances with the requirements of 29 CFR 1910.7.

OSHA welcomes public comment as to whether QPS meets the requirements of 29 CFR 1910.7 for renewal of their recognition as a NRTL. Comments should consist of pertinent written documents and exhibits. Commenters needing more time to comment must submit a request in writing, stating the reasons for the request. OSHA must receive the written request for an extension by the due date for comments. OSHA will limit any extension to 30 days unless the requester justifies a longer period. OSHA may deny a request for an extension if it is not adequately justified. To obtain or review copies of the publicly available information in QPS's application and other pertinent documents (including exhibits), as well as all submitted comments, contact the Docket Office, Room N-3653, Occupational Safety and Health Administration, U.S. Department of Labor; these materials also are available online at http://www.regulations.gov under Docket No. OSHA-2010-0046.

OSHA staff will review all comments to the docket submitted in a timely manner and, after addressing the issues raised by these comments (if any), will make a recommendation to the Assistant Secretary on whether to grant QPS's application for renewal. The Assistant Secretary will make the final decision on granting the application and, in making this decision, may undertake other proceedings prescribed in Appendix A to 29 CFR 1910.7.

OSHA will publish a public notice of this final decision in the Federal Register.

III. Authority and Signature

Douglas L. Parker, Assistant Secretary of Labor for Occupational Safety and Health, 200 Constitution Avenue NW, Washington, DC 20210, authorized the preparation of this notice. Accordingly, the agency is issuing this notice pursuant to 29 U.S.C. 657(g)(2), Secretary of Labor's Order No. 8-2020 (85 FR 58393, September 18, 2020), and 29 CFR 1910.7.

Signed at Washington, DC, on December 8, 2021.
Douglas L. Parker,
Assistant Secretary of Labor for Occupational Safety and Health.

[FR Doc. 2021-27122 Filed 12-14-21; 8:45 am]

BILLING CODE 4510-26-P